LEGAL SERVICES CORPORATION

Sunshine Act Meeting: Finance Committee, Postponed

AGENCY: Legal Services Corporation.

ACTION: Postponement notice.

SUMMARY: On June 16, 2016, the Legal Services Corporation (LSC) published a notice in the Federal Register (81 FR 39278) titled “Finance Committee Telephonic Meeting on June 22, 2016 at 3:30 p.m., EDT.” The meeting has been postponed, and the agenda will be covered at a later date. This document announces the postponement of the meeting.

Changes in the Meeting: Postponed.

DATES: This postponement is effective June 21, 2016.

FOR FURTHER INFORMATION CONTACT: Katherine Ward, Executive Assistant to the Vice President for Legal Affairs and General Counsel, Legal Services Corporation, 3333 K Street NW., Washington, DC 20007; (202) 295-1500; kward@lsc.gov.

Dated: June 21, 2016.
Katherine Ward,
Executive Assistant to the Vice President for Legal Affairs and General Counsel.

[FR Doc. 2016-14979 Filed 6-21-16; 4:15 pm]

BILLING CODE 7050-01-P